DEPARTMENT OF THE INTERIOR

National Park Service

Biscayne National Park; Notice of Intent To Prepare a Fisheries Management Plan With Environmental Impact Statement

AGENCY: National Park Service, Interior.

ACTION: Notice of Intent to prepare a Fisheries Management Plan with Environmental Impact Statement for Biscayne National Park.

SUMMARY: Notice is hereby given that in accordance with the National Environmental Policy Act of 1969, the U.S. Department of the Interior, National Park Service (NPS) will prepare a Fisheries Management Plan (FMP) with Environmental Impact Statement for Biscayne National Park. The plan will identify the current status of the fishery, describe desired future conditions, develop fisheries management objectives and present a range of alternatives that will directly contribute to the long-term protection and perpetuation of the Park's marine resources. Specific issues to be addressed include commercial and recreational harvest limits, park visitor use/access, availability of educational opportunities about fisheries resources within the Park, conservation and preservation of natural aquatic habitats, and the overall health and vitality of the fishery community. The plan will also address current tackle, techniques, methods, and practices pertaining to the recreational and commercial fisheries.

DATES: To determine the scope of issues to be addressed in the FMP and to identify significant issues related to the project, the NPS will hold three public scoping meetings. The first public meeting will be held in Miami, Florida on May 14, 2002. The second meeting will be held in Homestead, Florida on May 15, 2002, and the third will be held in Key Largo on May 16, 2002. An additional meeting will be held in Miami, Florida on May 13, 2002, to provide an opportunity for the NPS to respond to issues and concerns raised by commercial fishermen. A press release and advance mailing will be sent out providing details about the exact times and locations of each meeting. Representatives of the NPS will be available to discuss issues, resource concerns, and the planning process at each of the public meetings.

ADDRESSES: Any comments or requests for information should be addressed to Rick Clark, Chief, Resource Management, Biscayne National Park, 9700 SW 328th Street, Homestead, FL 33033-5634.

FOR FURTHER INFORMATION CONTACT: (1) Monika Mayr, Assistant Superintendent, Biscayne National Park, 9700 SW 328th Street, Homestead, FL 33033-5634, by telephone at 305-230-1144, ext. 3004 or by e-mail at Monika_Mayr@nps.gov. (2) Rick Clark, Chief, Resource Management, Biscayne National Park, 9700 SW 328th Street, Homestead, FL 33033-5634, by telephone at 305-230-1144, ext. 3007 or by e-mail at Rick_Clark@nps.gov.

SUPPLEMENTARY INFORMATION: Biscayne National Monument was established by Congress in 1968 (Pub. L. 90-606). The Monument was later expanded in 1974 (PL 93-477), and again in 1980 (Pub. L. 96-287) to its current size of 173,000 acres (270 square miles), when it was also redesignated Biscayne National Park to “preserve and protect for the education, inspiration, recreation, and enjoyment of present and future generations a rare combination of terrestrial, marine, and amphibious life in a tropical setting of great natural beauty.” As part of the enabling legislation, Congress recognized “the unique and special values” of the resources within the Park as well as the “vulnerability of these resources to destruction or damage due to easy human access by water.” Congress therefore directed the NPS to “manage this area in positive and scientific way in order to protect the area's natural resource integrity.” With respect to fisheries management, Congress provided additional direction by stipulating in the enabling legislation (Pub. L. 96-287) that “The Secretary shall preserve and administer the park in accordance with the provisions of the Act of August 25, 1916 (39 Stat. 535; U.S.S. 1-4), as amended and supplemented. The waters within the park shall continue to be open to fishing in conformity with the laws of the State of Florida except as the Secretary, after consultation with appropriate officials of said State, designates species for which, areas and times within which, and methods by which fishing is prohibited, limited, or otherwise regulated in the interest of sound conservation to achieve the purposes for which the park is established.”

Biscayne National Park is predominantly made up of submerged lands (95%), and may generally be divided into three major environments: coral reef, estuarine and terrestrial. The boundaries of the Park are from the mangrove shoreline to the west, extend east to Biscayne Bay (including seagrass communities and shoals), the keys (including hardwood hammocks, mangrove wetlands, sandy beaches and rocky inter-tidal areas), the reef, and continue to a contiguous 60-foot depth contour to the east. The northern boundary for the Park is near the southern extent of Key Biscayne, while the southern boundary is near the northern extent of Key Largo, adjacent to the Barnes Sound and Card Sound areas. This fisheries planning effort will evaluate a range of management recommendations to provide a quality visitor experience while maximizing the protection of the Park's resources.

Public comments received in writing and from the public meetings, including names and home addresses of respondents will be available for public review at the Park office during regular business hours. If you wish to withhold your name and/or address, please state this prominently at the beginning of your comment. Anonymous comments will be included in the public record, however, the NPS is not legally required to consider or respond to anonymous comments. All submissions from organizations or businesses, and from individuals identifying themselves as representatives or officials of organizations or businesses, will also be made available for public inspection in their entirety.

The draft and final fisheries management plans will be distributed to all known interested parties and appropriate agencies. Full public participation by federal, state, and local agencies, as well as other concerned organizations and private citizens, is invited during the scoping process and after the draft Fisheries Management Plan is prepared.

The responsible official for this environnmental impact statement is Jerry Belson, Regional Director, National Park Service, Southeast Region, 100 Alabama Street S.W., Atlanta, Georgia 30303.

Dated: April 2, 2002.
Patricia A. Hooks,
Acting Regional Director, Southeast Region.

[FR Doc. 02-10024 Filed 4-23-02; 8:45 am]

BILLING CODE 4310-70-M